NATIONAL SCIENCE FOUNDATION

Directorate for Mathematical and Physical Sciences Advisory Committee; Notice of Meeting

Name: Directorate for Mathematical and Physical Sciences Advisory Committee (MPSAC).

Date/Time: November 6, 2002, 12-5; November 7, 2002, 8:30 AM-6 PM; November 8, 2002, 8:30 AM-3 PM.

Place: November 6, 2002, Stafford Building II, Room 595, 4121 Wilson Boulevard, Arlington, VA. November 7-8, 2002, 4201 Wilson Boulevard, Arlington, VA 22230, Room 375.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: November 6: Briefing to New MPSAC members. November 7-8: Briefing on current status of Directorate. Meeting with members of the Education and Human Resources Directorate Advisory Committee. Discussion of MPS Activities with respect to MPSAC Recommendations concerning responses to the Hart-Rudman Report Discussion of MPS International Activities. Meeting of MPSAC with Divisions within MPS Directorate.

Dated: October 1, 2002.
Susanne E. Bolton,
Committee Management Officer.

[FR Doc. 02-25503 Filed 10-7-02; 8:45 am]

BILLING CODE 7555-01-M